DEPARTMENT OF HOMELAND SECURITY

Coast Guard

[Docket Number USCG-2023-0100]

Consolidation of Redundant Coast Guard Boat Stations

AGENCY: Coast Guard, DHS.

ACTION: Request for comments.

SUMMARY: The Coast Guard requests public comments on the planned consolidation of three redundant, seasonally operated Coast Guard boat stations and the seasonalization of one Coast Guard boat station. As modern boat operating speeds rise and navigation technology improves, the Coast Guard can respond to incidents with multiple units significantly faster than when these boat stations were first established. The combination of significantly improved response times, along with an overall reduction in rescue calls due to boating safety improvements throughout the Nation, has resulted in a number of boat stations becoming redundant. This consolidation will result in a more robust response system by increasing staffing levels and capacity at select nearby boat stations. The seasonalization of a unit shifts the Coast Guard's response to Search and Rescue cases from a more robustly staffed nearby boat station during the winter months.

DATES: Written comments and related material may be submitted to the Coast Guard personnel specified below. Your comments and related material must reach the Coast Guard on or before June 4, 2023.

ADDRESSES: You may submit comments identified by docket number USCG-2023-0100 using the Federal rulemaking portal at https://www.regulations.gov. See the “Public Participation and Request for Comments” portion of the SUPPLEMENTARY INFORMATION section for further instructions on submitting comments.

FOR FURTHER INFORMATION CONTACT: For information about this document, please call or email Todd Aikins, Coast Guard Office of Boat Forces, 202-372-2463, todd.r.aikins@uscg.mil.

SUPPLEMENTARY INFORMATION:

I. Table of Abbreviations

CFR Code of Federal Regulations

DHS Department of Homeland Security

GAO Government Accountability Office

II. Background and Purpose

In October of 2017, the GAO issued report GAO-18-9, titled “Actions Needed to Close Stations Identified as Overlapping and Unnecessarily Duplicative.” This GAO report, a copy of which is in the docket for this notice, recommends the consolidation of 18 boat stations. Due to environmental and operational factors, the Coast Guard is not considering all 18 boat stations identified in the GAO report for consolidation this year. Instead, we anticipate consolidating three stations, with implementation notionally scheduled for fiscal year 2023. These stations have been identified because there are other units nearby capable of responding to cases in these areas, and because these three stations respond to a low number of cases. We do not anticipate any adverse effect on Coast Guard response capability. We expect enhanced proficiency of boat operators as well as a less complicated response system.

III. Discussion

The following seasonal stations have been identified for consolidation with neighboring stations: Stations-Small Block Island, RI; Ocracoke, NC; and Sackets Harbor, NY. These seasonal stations are detached subunits of larger parent stations. In addition, Station-Small East Moriches, NY, has been identified for seasonalization, which means operating from this location during the peak boating season. This station was historically operated seasonally but has been operating year-round without appropriate resources. It will return to its seasonal status.

These actions would create synergy and more opportunities for boat operators to properly train instead of missing training opportunities while standing ready to respond to calls that do not come. Consolidation would allow the Coast Guard to operate more efficiently by not pre-positioning boats and crews in areas that don't have a SAR caseload in the winter months.

IV. Public Participation and Request for Comments

We encourage you to submit comments through the Federal portal at https://www.regulations.gov. If your material cannot be submitted using https://www.regulations.gov, contact the person in the FOR FURTHER INFORMATION CONTACT section of this document for alternate instructions. In your submission, please include the docket number for this notice and provide a reason for each suggestion or recommendation. We will review all comments received, but we may choose not to post off-topic, inappropriate, or duplicate comments that we receive.

We accept anonymous comments. Comments we post to https://www.regulations.gov will include any personal information you have provided. For more about privacy and submissions in response to this document, see DHS's eRulemaking System of Records notice (85 FR 14226, March 11, 2020).

Documents mentioned in this notice as being available in the docket, and public comments, will be in our online docket at https://www.regulations.gov and can be viewed by following that website's instructions.

Dated: March 31, 2023.
Jason C. Aleksak,
Captain, U.S. Coast Guard, Chief, Office of Boat Forces.

[FR Doc. 2023-07148 Filed 4-5-23; 8:45 am]

BILLING CODE 9110-04-P